DEPARTMENT OF THE INTERIOR

National Park Service

Notice of Availability of a Draft Supplement to the Final Environmental Impact Statement for Completion of the Natchez Trace Parkway, Tennessee, Alabama, Mississippi (1978)

SUMMARY: In accordance with Section 102(2)(c) of the National Environmental Policy Act of 1969 (Public Law 91-190, as amended), this notice announces the availability of the Draft Supplement (DSEIS) to the Final Environmental Impact Statement for Natchez Trace Parkway which was published in 1978. This supplement is for the construction of Section 3P13 of the Natchez Trace Parkway through Ridgeland, Mississippi. The DSEIS evaluates the environmental consequences associated with the proposed action and the other alternatives on local traffic and transportation routes, cultural resources, wetlands, visual quality, visitor experience, economics and land use, and impact on nearby residents, among other topics.

DATES: This DSEIS will be on public review for 60 days following the date of Environmental Protection Agency's (EPA) publication of their notice of the DSEIS in the Federal Register. A public meeting will be scheduled no less than 30 days from publication of EPA's notice but during the 60 day review period. Time and place of the public meeting will be scheduled at a later date and will be publicized in area newspapers. Those listed on the Natchez Trace Parkway's database who have shown interest in the proposed project will be notified personally by letter from the Parkway Superintendent.

ADDRESSES: Public reading copies of the Natchez Trace Parkway's Section 3P13 DSEIS will be available for public review at the following locations:

1. Natchez Trace Parkway Headquarters, 2680 Natchez Trace Parkway, Tupelo, Mississippi 38804, (662) 680-4004

2. Jackson/Hinds Library System, Eudora Welty Library, 300 North State Street, Jackson, Mississippi 39201, (601) 968-5809 (This is the Headquarters or main library in Jackson.)

FOR FURTHER INFORMATION CONTACT: For copies of the DSEIS or additional information, please contact: Wendell A. Simpson, Superintendent, Natchez Trace Parkway, 2680 Natchez Trace Parkway, Tupelo, Mississippi 38804, Telephone: (662) 680-4004.

SUPPLEMENTARY INFORMATION: The Natchez Trace Parkway was established in 1938 to commemorate the Old Natchez Trace, a primitive network of trails that stretched from Natchez, Mississippi, to Nashville, Tennessee. Designed to follow the alignment of the historic trace as closely as the requirements of modern road construction allows, the Natchez Trace Parkway will upon completion, extend diagonally from Natchez to Nashville, a distance of approximately 444 miles.

The completion of a continuous parkway motor road between Natchez and Nashville by the National Park Service has been underway for more than 60 years. A decision on and construction of this short segment of the parkway motor road, combined with other completed, in-progress, and planned NPS construction projects between I-20 and I-55 would permit the opening of the parkway motor road to through visitor vehicular use without the need for a detour through the greater metropolitan area of Jackson, Mississippi. The parkway's 1987 General Management Plan ranks the completion of the parkway motor road as one of its prominent management objectives.

Our practice is to make comments, including names and home addresses of respondents, available for public review during regular business hours. Individual respondents may request that we withhold their home address form the rulemaking record which we will honor to the extent allowable by law. There also may be circumstances in which we would withhold from the rulemaking record a respondent's identity, as allowable by law. If you wish for us to withhold your name and/or address, you must state this prominently at the beginning of your comments. We will make all submissions from organizations or businesses, and from individuals identifying themselves as representatives or officials of organizations or businesses, available for public inspection in their entirety.

Dated: April 28, 2000.
W. Thomas Brown,
Regional Director, Southeast Region.

[FR Doc. 00-11653 Filed 5-9-00 8:45 am]

BILLING CODE 4310-70-M